ENVIRONMENTAL PROTECTION AGENCY

[FRL-9168-2]

Informational Public Meetings for Hydraulic Fracturing Research Study; Correction

AGENCY: Environmental Protection Agency (EPA).

ACTION: Notice; correction.

SUMMARY: The Environmental Protection Agency (EPA) published a document in the Federal Register of June 21, 2010, announcing public meetings for the Hydraulic Fracturing Research Study. The document contained an incorrect EPA Web site address in two places.

FOR FURTHER INFORMATION CONTACT: Jill Dean, 202-564-8241.

Correction

In the Federal Register June 21, 2010, in FR doc. 2010-14897, on page 35023, in the third Column, correct the Web site addresses shown in (1) the first paragraph, seventh and eighth lines and (2) in the third paragraph, seventeenth and eighteenth lines to read: http://www.epa.gov/safewater/uic/wells_hydrofrac.html.

Dated: June 21, 2010.
Sheila E. Frace,
Acting Director, Office of Groundwater and Drinking Water.

[FR Doc. 2010-15466 Filed 6-24-10; 8:45 am]

BILLING CODE 6560-50-P